DEPARTMENT OF JUSTICE

Antitrust Division

Notice Pursuant to the National Cooperative Research and Production Act of 1993—Nuvera Fuel Cells, Inc.

Notice is hereby given that, on January 15, 2002, pursuant to section 6(a) of the National Cooperative Research and Production Act of 1993, 15 U.S.C. 4301 et seq. (“the Act”), Nuvera Fuel Cells, Inc., has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Nuvera Fuel Cells, Inc., Cambridge, MA; and H-Power Corporation, Belleville, NJ. The nature and objective of the venture is to develop and demonstrate a Propane Fueled Fuel Cell Power System for Telecommunications Applications.

Constance K. Robinson,
Director of Operations, Antitrust Division.

[FR Doc. 02-5542 Filed 3-7-02; 8:45 am]

BILLING CODE 4410-11-M